DEPARTMENT OF VETERANS AFFAIRS

Voluntary Service National Advisory Committee; Notice of Meeting

The Department of Veterans Affairs (VA) gives notice under Public Law 92-463 (Federal Advisory Committee Act) that the annual meeting of the Department of Veterans Affairs Voluntary Service (VAVS) National Advisory Committee (NAC) will be held March 14-16, 2012, at the Charleston Marriott, 170 Lockwood Boulevard, Charleston, South Carolina. On March 14, the meeting will begin at 8 a.m. and end at 11:30 a.m. On March 15-16, the meeting will begin at 8:30 a.m. and end at 4:30 p.m. The meeting is open to the public.

The Committee, comprised of fifty-five national voluntary organizations, advises the Secretary, through the Under Secretary for Health, on the coordination and promotion of volunteer activities within VA facilities. The purposes of this meeting are to provide for Committee review of volunteer policies and procedures; to accommodate full and open communications between organization representatives and the Voluntary Service Office and field staff; to provide educational opportunities geared towards improving volunteer programs with special emphasis on methods to recruit, retain, place, motivate, and recognize volunteers; and to provide Committee recommendations.

The March 14 session will include a National Executive Committee Meeting; Health Fair; and VAVS Representative and Deputy Representative training. In the evening, the James H. Parke Memorial Scholarship recipient will be honored at the Parke Awards Dinner (requires prepayment).

The March 15 business session will include remarks from local officials; the Voluntary Service Report; Veterans Health Administration Update; and remarks by VA officials on the National Cemetery Administration, VA National Sports Programs and Special Events; and insight from a former chief of voluntary service who is now a facility director. Educational workshops will be held in the afternoon and focus on Veterans family advisor program, concierge service, skill-based volunteer managed therapeutic activities, and ICARE customer service.

On March 16, the morning business session will include subcommittee reports; remarks on women Veterans health care; a panel discussion on Veterans transportation; and an update from the Director of the Veterans Canteen Service. The educational workshops will be repeated in the afternoon. The meeting will conclude with a Closing Awards Dinner (requires prepayment) recognizing the recipients of the American Spirit Awards, VAVS Award for Excellence, and the NAC male and female Volunteer of the Year awards.

No time will be allocated at this meeting for receiving oral presentations from the public. However, the public may submit written statements for the Committee's review to Ms. Laura Balun, Designated Federal Officer, Voluntary Service Office (10B2A), Department of Veterans Affairs, 810 Vermont Avenue NW., Washington, DC 20420, or by email at Laura.Balun@va.gov. Any member of the public wishing to attend the meeting or seeking additional information should contact Ms. Balun at (202) 461-7300.

By Direction of the Secretary.
Dated: February 13, 2012.
Vivian Drake,
Committee Management Officer.

[FR Doc. 2012-3729 Filed 2-16-12; 8:45 am]

BILLING CODE P